DEPARTMENT OF STATE

[Public Notice 6503]

Imposition of Category II Missile Sanctions Against Three North Korean Entities

AGENCY: Bureau of International Security and Nonproliferation, Department of State.

ACTION: Notice.

SUMMARY: A determination has been made that three North Korean entities have engaged in activities that require the imposition of missile sanctions pursuant to the Arms Export Control Act, as amended, and the Export Administration Act of 1979, as amended (as carried out under Executive Order 13222 of August 17, 2001).

DATES: Effective Date: February 2, 2009.

FOR FURTHER INFORMATION CONTACT: Pam Durham, Office of Missile Threat Reduction, Bureau of International Security and Nonproliferation, Department of State (202-647-4931). On import ban issues, Rochelle Stern, Director Policy Planning and Program Management, Office of Foreign Assets Control, Department of the Treasury (202-622-2500). On U.S. Government procurement ban issues, Kim Triplett, office of the Procurement Executive, Department of State (703-875-4079).

SUPPLEMENTARY INFORMATION: Pursuant to Section 73(a)(1) of the Arms Export Control Act (22 U.S.C. 2797b(a)(1)); Section 11B(b)(1) of the Export Administration Act of 1979 (50 U.S.C. app. 2410b(b)(1)), as carried out under Executive Order 13222 of August 17, 2001 (hereinafter cited as the “Export Administration Act of 1979”); and Executive Order 12851 of June 11, 1993; the U.S. Government determined on January 15, 2009 that the following foreign entities had engaged in missile technology proliferation activities that require the imposition of missile sanctions described in Section 73 of the AECA (22 U.S.C. 2797b) and Section 11B of the EAA (50 U.S.C. Appx 24710b) on these entities:

—Korea Mining and Development Corporation (KOMID) (North Korea) and its sub-units and successors

—Mokong Trading Corporation (North Korea) and its sub-units and successors

—Sino-Ki (North Korea) and its sub-units and successors

Accordingly, the following sanctions are being imposed on these entities for two years:

(A) Denial of all new individual export licenses for the transfer of MTCR Annex items to the sanctioned entities;

(B) Denial of all U.S. Government contracts relating to MTCR Annex items with the sanctioned entities; and

(C) Prohibition on the importation into the U.S. of all products produced by the sanctioned entities.

Additionally, because North Korea is a country with a non-market economy that is not a former member of the Warsaw Pact (as referenced in the definition of “person” in section 74(8)(B) of the Arms Export Control Act), the following sanctions shall be applied for two years to all activities of the North Korean government relating to the development or production of missile equipment or technology and all activities of the North Korean government affecting the development or production of electronics, space systems or equipment, and military aircraft:

(A) Denial of all new individual export licenses for the transfer to the government activities described above of MTCR Annex items controlled pursuant to the Arms Export Control Act;

(B) Denial of all U.S. Government contracts relating to MTCR Annex items with the government activities described above; and

(C) Prohibition on the importation into the U.S. of all products produced by the government activities described above.

These measures shall be implemented by the responsible departments and agencies of the United States Government as provided in Executive Order 12851 of June 11, 1993.

Dated: January 21, 2009.
C.S. Eliot Kang,
Acting Assistant Secretary of State for International Security and Nonproliferation, Department of State.

[FR Doc. E9-2175 Filed 1-30-09; 8:45 am]

BILLING CODE 4710-27-P